DEPARTMENT OF DEFENSE

Office of the Secretary

Meeting of the President's Information Technology Advisory Committee (PITAC)

ACTION: Notice of open meeting.

SUMMARY: This PITAC meeting will focus on the U.S. Government investment in networking and information technology research and development with some specific applications. In the morning, there will be a report by the PITAC Health and IT Subcommittee on its draft findings and recommendations. The afternoon session will focus on Cyber Security Subcommittee issues. A final agenda will be posted on the PITAC Web site (http://www.nitrd.gov/pitac/) approximately two weeks before the meeting.

DATES: Tuesday, April 13, 2004, 9:30 a.m. to 5 p.m.

ADDRESSES: The Washington Hotel, The Washington Room (Ballroom); 515 15th Street, NW., Washington, DC 20004.

SUPPLEMENTARY INFORMATION: The public may attend the meeting in person at the above address or on-line via the Internet. To participate on-line, you must contact the National Coordination Office for Information Technology Research and Development (ITRD) at the address below to register and receive instructions.

Members of the public are invited to participate by (1) submitting written statements to the PITAC at pitac-comments@nitrd.gov and (2) giving a brief (three minutes or less) oral statement during the 30 minute public comment period on the meeting agenda.

FOR FURTHER INFORMATION CONTACT: The NCO/ITRD at 703-292-4873 or by e-mail at pitac-comments@nitrd.gov.

Dated: February 26, 2004.
L.M. Bynum,
Alternate OSD Federal Register Liaison Officer, Department of Defense.

[FR Doc. 04-4789 Filed 3-3-04; 8:45 am]

BILLING CODE 5001-08-M